DEPARTMENT OF HEALTH AND HUMAN SERVICES

Centers for Disease Control and Prevention

[60-Day-11-0445]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Carol E. Walker, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

School Health Policies and Practices Study 2012 (formerly titled School Health Policies and Programs Study, OMB No. 0920-0445, exp. 11/30/2008)—Reinstatement with Changes—National Center for Chronic Disease Prevention and Health Promotion (NCCDPHP), Centers for Disease Control and Prevention (CDC).

Background and Brief Description

A limited number of preventable behaviors, usually established during youth and often extended into adulthood, contribute substantially to the leading causes of mortality and morbidity during youth and adulthood. These risk behaviors include those that result in unintentional injuries and violence; tobacco use; alcohol and other drug use; sexual behaviors that contribute to HIV infection, other STDs, and unintended pregnancies; unhealthy dietary behaviors; and physical inactivity.

School-based instruction on health topics offers the most systematic and efficient means of enabling young people to avoid the health risk behaviors that lead to such problems. CDC has previously examined the role that schools play in addressing health risk behaviors through the School Health Policies and Programs Study (SHPPS, OMB No. 0920-0445), a series of data collections conducted at the state, district, school, and classroom levels in 1994 (OMB No. 0920-0340, exp. 1/31/1995), 2000 (OMB No. 0920-0445, exp. 10/31/2002), and 2006 (OMB No. 0920-0445, exp. 11/30/2008).

CDC plans to reinstate data collection in 2012 with changes. SHPPS 2012 will collect information to assess the characteristics of eight components of school health programs at the elementary, middle, and high school levels: health education, physical education, health services, mental health and social services, nutrition services, healthy and safe school environment, faculty and staff health promotion, and family and community involvement. Twenty-two questionnaires will be used: six at the state level, seven at the district level, seven at the school level, and two at the classroom level. Minor modifications, such as question wording, will be made to the SHPPS 2006 questionnaires to improve clarity and to reflect a change in the mode of administration. State- and district-level data collection in 2006 was conducted via computer-assisted telephone interviewing; in 2012 this data collection will be self-administered via the Internet. A new component to the SHPPS 2012 study is the inclusion of vending machine observation, which will yield the only nationally representative dataset of snack and beverage offerings available to students through school vending machines. Finally, state-level questionnaires will be revised to reduce redundancy in CDC-sponsored data collections.

The 2012 SHPPS data collection will have significant implications for policy and program development for school health programs nationwide. The results will be used by Federal agencies, state and local education and health agencies, the private sector, and others to support school health programs; monitor progress toward achieving health and education goals and objectives; develop educational programs, demonstration efforts, and professional education/training; and initiate other relevant research initiatives to contribute to the reduction of health risk behaviors among our nation's youth. SHPPS 2012 data will also be used to provide measures for 14 Healthy People 2020 national health objectives. No other national source of data exists for these objectives.

There are no costs to respondents other than their time.

Estimated Annualized Burden Hours
Type of respondents | Form name | Number of respondents | Number of responses per respondent | Average burden per response (in hours) | Total burden (in hours)
| State Health Education | 51 | 1 | 30/60 | 26
| State Physical Education | 51 | 1 | 30/60 | 26
| State Health Services | 51 | 1 | 30/60 | 26
| State Nutrition Services | 51 | 1 | 30/60 | 26
State Officials | State Healthy and Safe School Environment | 51 | 1 | 30/60 | 26
| State Mental Health and Social Services | 51 | 1 | 30/60 | 26
| Assist with identifying state-level respondents and with recruiting districts and schools) | 51 | 1 | 1 | 51
District Officials | District Health Education | 685 | 1 | 30/60 | 343
| District Physical Education | 685 | 1 | 40/60 | 457
| District Health Services | 685 | 1 | 40/60 | 457
| District Nutrition Services | 685 | 1 | 30/60 | 343
| District Healthy and Safe School Environment | 685 | 1 | 1 | 685
| District Mental Health and Social Services | 685 | 1 | 30/60 | 343
| District Faculty and Staff Health Promotion | 685 | 1 | 20/60 | 228
| Assist with identifying district-level respondents and with recruiting schools | 685 | 1 | 1 | 685
Principals, secretaries or designees | Assist with identifying and scheduling school-level respondents | 1,043 | 1 | 1 | 1,043
Health education lead teachers, principals, or designees | School Health Education | 1,043 | 1 | 20/60 | 348
Physical education lead teachers, principals, or designees | School Physical Education | 1,043 | 1 | 40/60 | 695
School nurses, principals, or designees | School Health Services | 1,043 | 1 | 50/60 | 869
Food service managers, principals, or designees | School Nutrition Services | 1,043 | 1 | 40/60 | 695
Principals or designee | School Healthy and Safe School Environment | 1,043 | 1 | 1.25 | 1,304
Counselors, principals, or designees | School Mental Health and Social Services | 1,043 | 1 | 30/60 | 522
Principals or designees | School Faculty and Staff Health Promotion | 1,043 | 1 | 20/60 | 348
Health education teachers | Classroom Health Education | 2,002 | 1 | 50/60 | 1,668
Physical education teachers | Classroom Physical Education | 2,002 | 1 | 40/60 | 1,335
Total |  |  |  |  | 12,575

Dated: February 17, 2011.
Carol E. Walker,
Acting Reports Clearance Officer, Centers for Disease Control and Prevention.

[FR Doc. 2011-4167 Filed 2-23-11; 8:45 am]

BILLING CODE 4163-18-P